DEPARTMENT OF COMMERCE

National Oceanic and Atmospheric Administration

RIN: 0648-XQ44

Fisheries of the South Atlantic; South Atlantic Fishery Management Council; Public Meeting

AGENCY: National Marine Fisheries Service (NMFS), National Oceanic and Atmospheric Administration (NOAA), Commerce.

ACTION: Public meeting of the South Atlantic Fishery Management Council's Law Enforcement Advisory Panel (AP).

SUMMARY: The South Atlantic Fishery Management Council will hold a meeting of its Law Enforcement Advisory Panel in North Charleston, SC.

DATES: The meeting will take place August 12-13, 2009. See SUPPLEMENTARY INFORMATION for specific dates and times.

ADDRESSES: The meeting will be held at the Hilton Garden Inn, 5265 International Boulevard, North Charleston, SC; telephone: (843) 308-9330.

FOR FURTHER INFORMATION CONTACT: Kim Iverson, Public Information Officer, South Atlantic Fishery Management Council, 4055 Faber Place Drive, Suite 201, N. Charleston, SC 29405; telephone: (843) 571-4366 or toll free (866) SAFMC-10; fax: (843) 769-4520; email: kim.iverson@safmc.net.

SUPPLEMENTARY INFORMATION: Members of the Law Enforcement Advisory Panel will meet from 1:30 p.m. - 5 p.m. on August 12, 2009, and from 8:30 a.m. until 4 p.m. on August 13, 2009.

The Advisory Panel will receive updates from state and federal representatives regarding law enforcement activities and discuss issues relative to the Joint Enforcement Agreement (JEA) and current enforcement activities for the marine protected areas implemented in Amendment 14 to the Snapper Grouper Fishery Management Plan (FMP) for the South Atlantic. The AP will also receive updates on Vessel Monitoring Systems (VMS) programs in the Southeast Region and new location technology.

AP members will receive an update on Amendment 17A to the Snapper Grouper FMP and develop recommendations relative to proposed area closures, including the number and location of waypoints, transit provisions, definitions of gear stowed, and other issues. The AP will receive an update on Amendment 17B to the Snapper Grouper FMP and develop recommendations relative to the prohibition of harvest of deepwater snapper grouper species beyond 240 feet, including how to define the depth contour line including the number and location of waypoints, transit provisions, definition of gear stowed, and other issues.

The AP will review Amendment 18 to the Snapper Grouper FMP, including a provision to expand the snapper grouper management unit northward, and Amendment 20 to the Snapper Grouper FMP involving revisions of the existing Wreckfish Individual Transferable Quota (ITQ) Program, and provide recommendations. AP members will receive an update on the status of proposed Limited Access Privilege Programs (Catch Share Programs), and the Council's Ecosystem-Based Amendment 2 and provide recommendations as appropriate.

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Note: The times and sequence specified in this agenda are subject to change.

Special Accommodations

These meetings are physically accessible to people with disabilities. equests for auxiliary aids should be directed to the Council office (see ADDRESSES) 3 days prior to the meeting.

Dated: July 21, 2009.
Tracey L. Thompson,
Acting Director, Office of Sustainable Fisheries, National Marine Fisheries Service.

[FR Doc. E9-17655 Filed 7-23-09; 8:45 am]

BILLING CODE 3510-22-S